DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of October 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-42,039; Wisconsin Pattern Co., Racine, WI

TA-W-42,033; Bridgeport Machines, Inc., Bridgeport, CT, A; Delran, NJ, B; Webster, MA, C; Elgin, IL, D; Detroit, MI

TA-W-41,381; Red Wing Shoe Co., Inc., Potosi Plant, Potosi, MO

TA-W-42,237; Penn American Coal, a Wholly Owned Subsidiary of Mill Creek Mining, Inc., a Wholly Owned Subsidiary of Coal Resources, Inc., Black Lick, PA

TA-W-42,000; Daicolor-Pope, Inc., Paterson, NJ

TA-W-41,589; Shamrock Conduit Products, Inc., Barnesville, OH

In the following cases, the investigation revealed that the criteria for eligibility have not been met for the reasons specified.

Increased imports did not contribute importantly to worker separations at the firm.

TA-W-42,143; Dana Corp., Perfect Circle Div., Hastings, NE

TA-W-41,370; The Boeing Co., Battlefield Command and Control, Space Systems, El Paso, TX

The workers firm does not produce an article as required for certification under section 222 of the Trade Act of 1974.

TA-W-42,234; Joy Mining Machinery, a Div. of Joy Global, Inc., Co., Mt Vernon, IL

TA-W-42,242; Super Shrimp, Inc., Yuma, AZ

TA-W-42,097; Jones Apparel Group USA, Inc., El Paso, TX

TA-W-41,396; Bell Sponging Co., Inc., Allentown, PA

The investigation revealed that criteria (1) has not been met. A Significant number or proportion of the workers did not become totally or partially separated from employment as required for certification.

TA-W-41,943; ADC Telecommunications, Inc., Eden Prairie, MN

Affirmative Determinations for Worker Adjustment Assistance

The following certifications have been issued; the date following the company name and location of each determination references the impact date for all workers of such determination.

TA-W-42,199; Harting Manufacturing, Inc., Elgin, IL: September 19, 2001

TA-W-42,125; River Oaks Furniture, Inc., Tupelo, MS: August 30, 2001

TA-W-42,058; Cross Wire Cloth and Manufacturing Co., a Subsidiary of MDN, Inc, Bellmawr, NJ: August 23, 2001

TA-W-42,056; Kadant Black Clawson, a Wholly Owned Subsidiary of Kadant, Inc., Mason, OH: July 30, 2001

TA-W-42,035; Piece Dye Acquisition Corp., d/b/a Piece Dye Works, Edenton, NC: August 10, 2001

TA-W-41,981; Carolina Mills, Inc., Plant #21 and Plant #24, Gastonia, NC: July 19, 2001

TA-W-41,431; Sterling Fluid Systems (USA), Inc., Process Metals Foundry, White Pigeon, MI: April 1, 2001

TA-W-42,252; Leslie Fay Marketing, Inc., Trio Div., New York, NY: October 11, 2001

TA-W-42,223; Nash Garment Co., Inc., Nashville, NC: July 11, 2001

TA-W-42,313; Premier Machining Industries, LLC, Concord, NC: October 23, 2001

TA-W-42,179; Kirkwood Industries, Inc., Dayton Precision Div., Hebron, OH: September 9, 2001

TA-W-42,178; Microtek Medical, Inc., Columbus, MS: April 1, 2002

TA-W-42,146; Apex Automation, Elizabethtown, PA: August 28, 2001

TA-W-42,142; Tinplate Partners International, Inc., Gary, IN: August 24, 2001

TA-W-42,082; Nordic Gear, Inc., Newport, PA: August 28, 2001

TA-W-42,081; Nordic Gear, Inc., Millersburg, PA: August 28, 2001

TA-W-41,660; Amspec Chemical Corp., Gloucester, NJ: May 18, 2001

Also, pursuant to title V of the North American Free Trade Agreement Implementation Act (Pub. L. 103-182) concerning transitional adjustment assistance hereinafter called (NAFTA-TAA) and in accordance with section 250(a), subchaper D, chapter 2, title II, of the Trade Act as amended, the Department of Labor presents summaries of determinations regarding eligibility to apply for NAFTA-TAA issued during the month of October 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05696; Pittsburgh Gear Co., a Subsidiary of Brad Foote Gear Works, Inc., Pittsburgh, PA

NAFTA-TAA-06077; The Boeing Co., Battlefield Command and Control/Space Systems, El Paso, TX

The investigation revealed that the criteria for eligibility have not been met for the reasons specified.

The investigation revealed that workers of the subject firm did not produce an article within the meaning of section 250(a) of the Trade Act, as amended.

NAFTA-TAA-06129; Bell Sponging Co., Inc., Allentown, PA

NAFTA-TAA-06520; Jones Apparel Group USA, Inc., El Paso, TX

NAFTA-TAA-07619; Empire Blue Cross Blue Shield, Syracuse, NY

The investigation revealed that criteria (1) has not been met. A significant number or proportion of the workers in such workers' firm or an appropriate subdivision (including workers in any agricultural firm or appropriate subdivision thereof) did not become totally or partially separated from employment as required for certification.

NAFTA-TAA-07245; Permit #60091M, King Salmon, AK

NAFTA-TAA-07039; Permit #68757A, Togiak, AK

NAFTA-TAA-07244; Permit #58575Q, King Salmon, AK

NAFTA-TAA-06450; ADC Telecommunication, Corporate Headquarters, Eden Prairie, MN

Affirmative Determinations NAFTA-TAA

NAFTA-TAA-06560; Permit #61977V, Clarks Point, AK: September 5, 2001

NAFTA-TAA-06590; Permit #59590W, New Stuyahok, AK: September 5, 2001

NAFTA-TAA-06758; Permit #56087G, Ekwok, AK: September 5, 2001

NAFTA-TAA-06768; Permit #57814M, Iliamna, AK: September 5, 2001

NAFTA-TAA-06794; Permit #67507U, King Salmon, AK: September 5, 2001

NAFTA-TAA-06888; Permit #61249B, Naknek, AK: September 5, 2001

NAFTA-TAA-06890; Permit #56569N, Anchorage, AK: September 5, 2001

NAFTA-TAA-06931; Permit #57641L, New Stuyahok, AK: September 5, 2001

NAFTA-TAA-06953; Permit #62030E, Pilot Point, AK: September 5, 2001

NAFTA-TAA-07007; Permit #68074I, Togiak, AK: September 5, 2001

NAFTA-TAA-07308; Permit #57390J, Manokotak, AK: September 5, 2001

NAFTA-TAA-07429; Permit #58385W, Pilot Point, AK: September 5, 2001

NAFTA-TAA-07449; Permit #58296E, South Naknek, AK: September 5, 2001

NAFTA-TAA-07450; Permit #59803W, South Naknek, AK: September 5, 2001

NAFTA-TAA-07551; Nordic Gear, Inc., Millersburg, PA: August 28, 2001

NAFTA-TAA-07552; Nordic Gear, Inc., Newport, PA: August 28, 2001

NAFTA-TAA-07588; Nash Garment Co., Inc., Nashville, NC: July 11, 2001

NAFTA-TAA-06411; Carolina Mills, Inc., Plant #21 and Plant #24, Gastonia, NC: July 19, 2001

NAFTA-TAA-06480; Piece Dye Acquisition Corp., d/b/a Piece Dye Works, Edenton, NC: August 10, 2001

NAFTA-TAA-06947; 59469B, Newhalen, AK: September 5, 2001

I hereby certify that the aforementioned determinations were issued during the month of October 2002. Copies of these determinations are available for inspection in Room C-5311, U.S. Department of Labor, 200 Constitution Avenue, NW., Washington, DC 20210 during normal business hours or will be mailed to persons who write to the above address.

Dated: November 1, 2002.
Edward A. Tomchick,
Director, Division of Trade Adjustment Assistance.

[FR Doc. 02-29626 Filed 11-20-02; 8:45 am]

BILLING CODE 4510-30-P